DEPARTMENT OF LABOR

Employee Benefits Security Administration

156th Meeting of the Advisory Council on Employee Welfare and Pension Benefit Plans; Notice of Meeting

Pursuant to the authority contained in Section 512 of the Employee Retirement Income Security Act of 1974 (ERISA), 29 U.S.C. 1142, the 156th open meeting of the Advisory Council on Employee Welfare and Pension Benefit Plans; (also known as the ERISA Advisory Council) will be held on July 19-21, 2011.

The three-day meeting will take place in C-5515 Room 1-A, U.S. Department of Labor, 200 Constitution Avenue, NW., Washington, DC 20210. The purpose of the open meeting is for Advisory Council members to hear testimony from invited witnesses and to receive an update from the Employee Benefits Security Administration (EBSA). The meeting will run from 9 a.m. to approximately 5 p.m. on July 19 and from 8:30 a.m. to approximately 5 p.m. on July 20 and 21, with a one hour break for lunch each day. The EBSA update is scheduled for the afternoon of July 20, subject to change.

The Advisory Council will study the following issues: (1) Hedge Funds and Private Equity Investments, (2) Privacy and Security Issues Affecting Employee Benefit Plans (other than health care plans), and (3) Current Challenges and Best Practices for ERISA Compliance for 403(b) Plan Sponsors. The schedule for testimony and discussion of these issues generally will be one issue per day in the order noted above. Descriptions of these topics are available on the Advisory Council page of the EBSA Web site, at http://www.dol.gov/ebsa/aboutebsa/erisa_advisory_council.html.

Organizations or members of the public wishing to submit a written statement may do so by submitting 30 copies on or before July 12, 2011 to Larry Good, Executive Secretary, ERISA Advisory Council, U.S. Department of Labor, Suite N-5623, 200 Constitution Avenue, NW., Washington, DC 20210. Statements also may be submitted as e-mail attachments in text or pdf format transmitted to good.larry@dol.gov. It is requested that statements not be included in the body of the e-mail. Statements deemed relevant by the Advisory Council and received on or before July 12, 2011 will be included in the record of the meeting and available in the EBSA Public Disclosure room, along with witness statements. Do not include any personally identifiable information (such as name, address, or other contact information) or confidential business information that you do not want publicly disclosed. Written statements submitted by invited witnesses also will be posted, without change, on the Advisory Council page of the EBSA Web site— http://www.dol.gov/ebsa/. Statements posted on the Internet can be retrieved by most Internet search engines.

Individuals or representatives of organizations wishing to address the Advisory Council should forward their requests to the Executive Secretary or telephone (202) 693-8668. Oral presentations will be limited to ten minutes, time permitting, but an extended statement may be submitted for the record. Individuals with disabilities who need special accommodations should contact the Executive Secretary by July 12 at the address indicated.

Signed at Washington, DC, this 17th day of June 2011.
Michael L. Davis,
Deputy Assistant Secretary, Employee Benefits Security Administration.

[FR Doc. 2011-15587 Filed 6-21-11; 8:45 am]

BILLING CODE 4510-29-P